DEPARTMENT OF COMMERCE

International Trade Administration

[A-570-863]

Honey from the People's Republic of China: Preliminary Results of Antidumping Duty New Shipper Review

AGENCY: Import Administration, International Trade Administration, Department of Commerce.

SUMMARY: The Department of Commerce (“the Department”) is currently conducting the semi-annual 2005-2006 new shipper review of the antidumping duty order on honey from the People's Republic of China (“PRC”). We preliminarily determine to apply adverse facts available (“AFA”) with respect to Shanghai Bloom International Trading Co., Ltd. (“Shanghai Bloom”), which failed to cooperate to the best of its ability, provided unverifiable information, and impeded the proceeding. If these preliminary results are adopted in our final results of this review, we will instruct U.S. Customs and Border Protection (“CBP”) to assess antidumping duties on entries of subject merchandise during the period of review (“POR”) for which the importer-specific assessment rates are above de minimis.

Interested parties are invited to comment on these preliminary results. We will issue the final results no later than 120 days from the date of publication of this notice.

EFFECTIVE DATE: July 3, 2007)

FOR FURTHER INFORMATION CONTACT: Erin Begnal or Anya Naschak, AD/CVD Operations, Office 9, Import Administration, International Trade Administration, U.S. Department of Commerce, 14th Street and Constitution Avenue, NW, Washington, DC 20230; telephone: (202) 482-1442 or (202) 482-6375, respectively.

SUPPLEMENTARY INFORMATION:

Background

On June 21, 2006, the Department received a timely request from Shanghai Bloom, in accordance with section 751(a)(2)(B) of the Tariff Act of 1930, as amended (“the Act”), and 19 CFR 351.214(c), for a new shipper review of the antidumping duty order on honey from the People's Republic of China (“PRC”). On July 20, 2006, the Department extended the deadline to initiate Shanghai Bloom's new shipper review, in order to clarify certain information contained in Shanghai Bloom's request for a new shipper review. On August 30, 2006, after receiving supplemental information from Shanghai Bloom, the Department found that the request for review with respect to Shanghai Bloom met all of the regulatory requirements set forth in 19 CFR 351.214(b) and initiated a antidumping duty new shipper review covering the period December 1, 2005, through June 30, 2006. See Honey from the People's Republic of China: Initiation of New Shipper Antidumping Duty Review, 71 FR 52764 (September 7, 2006)

(“Initiation Notice”).

On September 11, 2006, the Department issued an antidumping duty questionnaire to Shanghai Bloom. See Letter to Shanghai Bloom from Carrie Blozy, Program Manager, AD/CVD Operations, Office 9 (September 11, 2006). On October 2, 2006, Shanghai Bloom responded to section A of the Department's questionnaire. On October 18, 2006, Shanghai Bloom submitted its response to sections C and D, and importer-specific questions of the Department's questionnaire. On October 26, 2006, the Department issued a supplemental questionnaire to Shanghai Bloom, and received Shanghai Bloom's response on November 24, 2006. On January 3, 2007, the Department issued a second supplemental questionnaire to Shanghai Bloom. Shanghai Bloom submitted its response and its importer's response to the Department's second supplemental questionnaire on January 31, 2007.

On January 9, 2007, the Department extended the deadline for the preliminary results of the new shipper review until June 26, 2007. See Notice of Extension of the Preliminary Results of Antidumping Duty New Shipper Review: Honey From the People's Republic of China, 72 FR 947 (January 9, 2007).

On March 20, 2007, the Department rejected Shanghai Bloom's January 31, 2007, response on the grounds that proprietary information was not sufficiently summarized in the public version. On March 22, 2007, per the Department's instruction, Shanghai Bloom resubmitted its response as well as its importer's response to the Department's second supplemental questionnaire. On March 29, 2007, Shanghai Bloom submitted revised FOP spreadsheets and reconciliation charts that related to its March 22, 2007, filing. On March 30, 2007, the Department issued Shanghai Bloom a third supplemental questionnaire. The Department received Shanghai Bloom's response and its importer's response to the third supplemental questionnaire on April 13, 2007. On April 19, 2007, Shanghai Bloom re-filed its importer's response to the Department's March 30, 2007, importer-specific questions contained in its third supplemental questionnaire. From May 15, 2007, through May 18, 2007, the Department conducted verifications of the sales and factors of production information submitted by Shanghai Bloom and its unaffiliated producer, Linxiang Jindeya Bee-Keeping Co., Ltd. (“Linxiang Jindeya”).

Surrogate Country and Factors

On March 13, 2007, the Department provided parties with an opportunity to submit publicly available information (“PAI”) on surrogate countries and values for consideration in these preliminary results. See Letter to All Interested Parties, from Christopher D. Riker, Program Manager, AD/CVD Operations, Office 9, regarding New Shipper Review of Honey from the People's Republic of China, dated March 13, 2007.

On March 28, 2007, Shanghai Bloom submitted surrogate value data (see Letter from Shanghai Bloom to the U.S. Department of Commerce regarding Honey from the People's Republic of China New Shipper Review (March 28, 2007). On May 14, 2007, the petitioners¹ submitted surrogate value data (see Letter to the U.S. Department of Commerce, from petitioners, regarding 9th New Shipper Review of Honey from the People's Republic of China, dated May 14, 2007.

¹ Petitioners are the American Honey Producers Association and the Sioux Honey Association.

Verification

As provided in section 782(i)(3) of the Act and 19 CFR 351.307(b)(iv), the Department verified the questionnaire responses of Shanghai Bloom from May 15, 2007, to May 18, 2007, (which included a verification of Shanghai Bloom's unaffiliated producer, Linxiang Jindeya). For these companies, we used standard verification procedures, including on-site inspection of the manufacturer's and exporter's facilities, and examination of relevant sales and financial records. Our verification results are outlined in the verification report for each company. For a further discussion, see Memorandum to the File, through Christopher D. Riker, Program Manager, AD/CVD Operations, Office 9, from Anya Naschak, Senior International Trade Compliance Analyst, and Michael Holton, Senior International Trade Compliance Analyst, regarding Verification of the Questionnaire Responses of Shanghai Bloom International Trading Co. Ltd., in the Antidumping New Shipper Review of Honey from the People's Republic of China (“Shanghai Bloom Verification Report”); see also Memorandum to the File, through Christopher D. Riker, Program Manager, AD/CVD Operations, Office 9, from Anya Naschak, Senior International Trade Compliance Analyst, and Michael Holton, Senior International Trade Compliance Analyst, regarding Verification of the Questionnaire Responses of Shanghai Bloom that relate to Linxiang Jindeya Bee-Keeping Co., Ltd., in the Antidumping New Shipper Review of Honey from the People's Republic of China (“Linxiang Jindeya Verification Report”).

Scope of Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under order is dispositive.

Separate Rates

In proceedings involving non-market economy (“NME”) countries, the Department begins with a rebuttable presumption that all companies within the country are subject to government control and, thus, should be assigned a single antidumping duty rate unless an exporter can affirmatively demonstrate an absence of government control, both in law (de jure) and in fact (de facto), with respect to its export activities. In this review, Shanghai Bloom submitted information in support of its claim for a company-specific rate.

Accordingly, we have considered whether Shanghai Bloom is independent from government control, and therefore eligible for a separate rate. The Department's separate-rate test to determine whether the exporters are independent from government control does not consider, in general, macroeconomic/border-type controls, e.g., export licenses, quotas, and minimum export prices, particularly if these controls are imposed to prevent dumping. The test focuses, rather, on controls over the investment, pricing, and output decision-making process at the individual firm level. See Certain Cut-to-Length Carbon Steel Plate from Ukraine: Final Determination of Sales at Less than Fair Value, 62 FR 61754, 61757 (November 19, 1997), and Tapered Roller Bearings and Parts Thereof, Finished and Unfinished, from the People's Republic of China: Final Results of Antidumping Duty Administrative Review, 62 FR 61276, 61279 (November 17, 1997).

To establish whether a firm is sufficiently independent from government control of its export activities to be entitled to a separate rate, the Department analyzes each entity exporting the subject merchandise under a test arising from the Notice of Final Determination of Sales at Less Than Fair Value: Sparklers from the People's Republic of China, 56 FR 20588, 20589 (May 6, 1991) (Sparklers), as amplified by Notice of Final Determination of Sales at Less Than Fair Value: Silicon Carbide from the People's Republic of China, 59 FR 22585, 22586-7 (May 2, 1994) (Silicon Carbide). In accordance with the separate-rates criteria, the Department assigns separate rates in NME cases only if respondents can demonstrate the absence of both de jure and de facto government control over export activities.

Shanghai Bloom provided complete separate-rate information in its responses to our original and supplemental questionnaires. Accordingly, we performed a separate-rates analysis to determine whether it is independent from government control.

Absence of De Jure Control

The Department considers the following de jure criteria in determining whether an individual company may be granted a separate rate: (1) an absence of restrictive stipulations associated with an individual exporter's business and export licenses; (2) any legislative enactments decentralizing control of companies; and (3) other formal measures by the government decentralizing control of companies. See Sparklers, 56 FR at 20589. Our analysis shows that the evidence on the record supports a preliminary finding of de jure absence of government control for Shanghai Bloom. Shanghai Bloom has placed on the record a number of documents to demonstrate absence of de jure control, including the “Company Law of the People's Republic of China” (December 29, 1993), and the “Foreign Trade Law of the People's Republic of China” (May 12, 1994). See Exhibit A-2 of Shanghai Bloom's October 2, 2005, submission (Shanghai Bloom Section A). Shanghai Bloom also submitted a copy of its business license in Exhibit A-3 of its section A response, and a revised business license at verification. See Shanghai Bloom Verification Report at Exhibit SB2. The Shanghai Industry and Commerce Administration Bureau issued these licenses. Shanghai Bloom explained that its business license defines the scope of the company's business activities and ensures the company has sufficient capital to continue its business operations. Shanghai Bloom affirmed that license defines the scope of its business operations and that there are no other limitations imposed by the business license.

Shanghai Bloom stated that it is governed by the Company Law and the Foreign Trade Law, which it claimed governs the establishment of limited liability companies and provides that such a company shall operate independently and be responsible for its own profits and losses and allowing them full autonomy from the central authority in governing their business operations. We have reviewed Article 11 of Chapter II of the Foreign Trade Law, which states, “foreign trade dealers shall enjoy full autonomy in their business operation and be responsible for their own profits and losses in accordance with the law.” As in prior cases, we have analyzed such PRC laws and found that they establish an absence of de jure control. See, e.g., Pure Magnesium from the People's Republic of China: Final Results of New Shipper Review, 63 FR 3085, 3086 (January 21, 1998) and Preliminary Results of New Shipper Review: Certain Preserved Mushrooms From the People's Republic of China, 66 FR 30695, 30696 (June 7, 2001), as affirmed in Final Results of New Shipper Review: Certain Preserved Mushrooms From the People's Republic of China, 66 FR 45006 (August 27, 2001). Therefore, we preliminarily determine that there is an absence of de jure control over the export activities of Shanghai Bloom.

Absence of De Facto Control

Typically, the Department considers four factors in evaluating whether a respondent is subject to de facto government control of its export functions: (1) whether the export prices are set by, or subject to, the approval of a government authority; (2) whether the respondent has authority to negotiate and sign contracts, and other agreements; (3) whether the respondent has autonomy from the government in making decisions regarding the selection of its management; and (4) whether the respondent retains the proceeds of its export sales and makes independent decisions regarding disposition of profits or financing of losses. See Silicon Carbide, 59 FR at 22587.

As stated in previous cases, there is some evidence that certain enactments of the PRC central government have not been implemented uniformly among different sectors and/or jurisdictions in the PRC. Id. at 22586-22587. Therefore, the Department has determined that an analysis of de facto control is critical in determining whether respondents are, in fact, subject to a degree of government control, which would preclude the Department from assigning separate rates.

Shanghai Bloom has asserted the following: (1) it is a privately owned company; (2) there is no government participation in its setting of export prices; (3) its general manager has the authority to bind sales contracts; (4) the company's executive director appoints the company's management and it does not have to notify government authorities of its management selection; (5) there are no restrictions on the use of its export revenue; and (6) its executive director decides how profits will be used.

In support of its claim to independent price negotiations, Shanghai Bloom stated that such negotiations were conducted through emails and telephone calls, and that it had placed on the record copies of all emails between itself and its U.S. customer during the POR.² Shanghai Bloom also stated that its only email account was the account listed on the above-referenced sales negotiations. Id.

² See e.g., Shanghai Bloom's Section A at Exhibit A-5, Shanghai Bloom's Response to the Departments Second Supplemental Questionnaire at 3, (March 22, 2007), and Shanghai Bloom's Response to the Department's Third Supplemental Questionnaire at 1, (April 13, 2007).

At the verification of Shanghai Bloom, the Department found that the emails placed on the record by Shanghai Bloom were not stored in Shanghai Bloom's email account, and were instead stored in text files on Shanghai Bloom's computer hard drive. See Shanghai Bloom Verification Report at 9. In addition, the Department found at verification that Shanghai Bloom used an additional email address for official company business; the Department requested access to this email account. However, company officials stated that all information in the account had been deleted prior to granting the Department access to the account. See Shanghai Bloom Verification Report at 8. However, the Department successfully verified that Shanghai Bloom is a privately owned company (see Shanghai Bloom Verification Report at 3-4 and Exhibit SB2), that Shanghai Bloom independently selected management (id. at 10), and that Shanghai Bloom had authority to determine the use of sales revenue (id.). Moreover, the Department found no indications of restrictions on the use of export revenue (id.). Furthermore, Shanghai Bloom supplied sales negotiation documentation including a purchase order and sales contract with an independent third party, demonstrating its independent setting of export prices. See Shanghai Bloom Verification Report at 18.

Irrespective of the issues with respect to the email accounts, which are addressed separately below under “Use of Adverse Facts Otherwise Available,” because evidence on the record preliminarily indicates an absence of government control, both in law and in fact, over Shanghai Bloom's export activities, we preliminarily determine that it has met the criteria for the application of a separate rate. However, we will continue to carefully examine these issues for the Final Results.

Use of Adverse Facts Otherwise Available

For the reasons outlined below, we have applied total adverse facts available to Shanghai Bloom. Section 776(a)(2) of the Act provides that, if an interested party: (A) withholds information that has been requested by the Department; (B) fails to provide such information in a timely manner or in the form or manner requested subject to sections 782(c)(1) and (e) of the Act; (C) significantly impedes a proceeding under the antidumping statute; or (D) provides such information but the information cannot be verified, the Department shall, subject to section 782(d) of the Act, use facts otherwise available in reaching the applicable determination. Section 782(d) of the Act provides that when the Department finds that a respondent has not complied with a request for information, the Department shall inform the respondent of the deficiency and allow them an opportunity to remedy or explain the deficiency. If the Department finds that the subsequent response of the respondent is deficient or is not filed within the applicable time limits, the Department may, subject to subsection (e) disregard all or part of the original and subsequent responses. Moreover, section 782(e) states that the Department shall not decline to consider information by a respondent if: (1) the information is submitted by the deadline established for its submission; (2) the information can be verified; (3) the information is not so incomplete that it cannot serve as a reliable basis for reaching the applicable determination; (4) the interested party has demonstrated that it acted to the best of its ability in providing information and meeting the requirements established by the Department with respect to the information; and (5) the information can be used without undue difficulties.

The Department conducted verification of Shanghai Bloom's sales and factors of production information placed on the record of this new shipper review. Shanghai Bloom impeded the Department's verification of its information by destroying or deleting information needed to verify completeness and price negotiations and by providing unverifiable factors of production (“FOP”) data. See Shanghai Bloom Verification Report; see also Linxiang Jindeya Verification Report. Because Shanghai Bloom deleted information needed to verify completeness and price negotiations, section 782(d) and (e) of the Act are not applicable. See Memorandum to James C. Doyle, Director, AD/CVD Operations, Office 9, Import Administration from Erin Begnal, Senior International Trade Analyst, AD/CVD Operations, Office 9, Import Administration, regarding Honey from the People's Republic of China: Preliminary Application of Adverse Facts Available to Shanghai Bloom International Trading Co., Ltd. (June 26, 2007).

By hindering the Department's ability to conduct verification through destroying and/or deleting pertinent information and by providing information at verification that directly conflicted with information previously submitted on the record by Shanghai Bloom, Shanghai Bloom has not cooperated to the best of its ability.

According to section 776(b) of the Act, if the Department finds that an interested party “has failed to cooperate by not acting to the best of its ability to comply with a request for information,” the Department may use information that is adverse to the interests of the party as facts otherwise available. Adverse inferences are appropriate “to ensure that the party does not obtain a more favorable result by failing to cooperate than if it had cooperated fully.” See Statement of Administrative Action (“SAA”) accompanying the Uruguay Round Agreements Act (“URAA”), H.R. Rep. No. 103-316, Vol. 1 at 870 (1994).

As explained above, Shanghai Bloom provided unverifiable information on the record, deleted information requested by the Department, and failed to provide evidence of price negotiations. Therefore, Shanghai Bloom did not cooperate to the best of its ability. Because Shanghai Bloom did not cooperate to the best of its ability in the proceeding, the Department finds it necessary, pursuant to sections 776(a)(2)(A),(B) and (C) and 776(b) of the Act, to use adverse facts available (“AFA”) as the basis for these preliminary results of review for Shanghai Bloom .

Selection of AFA Rate

In deciding which facts to use as AFA, section 776(b) of the Act and 19 CFR 351.308(c)(1) authorize the Department to rely on information derived from (1) the petition, (2) a final determination in the investigation, (3) any previous review or determination, or (4) any information placed on the record. In reviews, the Department normally selects, as AFA, the highest rate on the record of any segment of the proceeding. See, e.g., Freshwater Crawfish Tail Meat from the People's Republic of China: Notice of Final Results of Antidumping Duty Administrative Review, 68 FR 19504 (April 21, 2003). The Court of International Trade (“CIT”) and the Federal Circuit have consistently upheld the Department's practice in this regard. See Rhone Poulenc, Inc. v. United States, 899 F.2d 1185, 1190 (Fed. Circ. 1990) (“Rhone Poulenc”); NSK Ltd. v. United States, 346 F. Supp. 2d 1312, 1335 (CIT 2004) (upholding a 73.55 percent total AFA rate, the highest available dumping margin from a different respondent in a LTFV investigation); see also Kompass Food Trading Int'l v. United States, 24 CIT 678, 689 (2000) (upholding a 51.16 percent total AFA rate, the highest available dumping margin from a different, fully cooperative respondent); and Shanghai Taoen International Trading Co., Ltd. v. United States, 360 F. Supp 2d 1339, 1348 (CIT 2005) (upholding a 223.01 percent total AFA rate, the highest available dumping margin from a different respondent in a previous administrative review).

The Department's practice when selecting an adverse rate from among the possible sources of information is to ensure that the margin is sufficiently adverse “as to effectuate the purpose of the facts available role to induce respondents to provide the Department with complete and accurate information in a timely manner.” See Static Random Access Memory Semiconductors from Taiwan; Final Determination of Sales at Less than Fair Value, 63 FR 8909, 8932 (February 23, 1998). The Department's practice also ensures “that the party does not obtain a more favorable result by failing to cooperate than if it had cooperated fully.” See SAA at 870; see also Final Determination of Sales at Less than Fair Value: Certain Frozen and Canned Warmwater Shrimp from Brazil, 69 FR 76910 (December 23, 2004); D&L Supply Co. v. United States, 113 F. 3d 1220, 1223 (Fed. Cir. 1997). In choosing the appropriate balance between providing respondents with an incentive to respond accurately and imposing a rate that is reasonably related to the respondent's prior commercial activity, selecting the highest prior margin “reflects a common sense inference that the highest prior margin is the most probative evidence of current margins, because, if it were not so, the importer, knowing of the rule, would have produced current information showing the margin to be less.” Rhone Poulenc, 899 F.2d at 1190. Consistent with the statute, court precedent, and its normal practice, the Department has assigned the rate of 212.39 percent, the highest rate on the record of any segment of the proceeding, to Shanghai Bloom as AFA. See, e.g., Honey from the People's Republic of China: Final Results and Final Rescission, In Part, of Antidumping Duty Administrative Review 71 FR 34893 (June 16, 2006) (“Third AR Final Results”). As discussed further below, this rate has been corroborated.

Corroboration of Secondary Information Used as AFA

Section 776(c) of the Act provides that, where the Department selects from among the facts otherwise available and relies on “secondary information,” the Department shall, to the extent practicable, corroborate that information from independent sources reasonably at the Department's disposal. Secondary information is described in the SAA as “{i}nformation derived from the petition that gave rise to the investigation or review, the final determination concerning the subject merchandise, or any previous review under section 751 concerning the subject merchandise.” See SAA at 870. The SAA states that “corroborate” means to determine that the information used has probative value. The Department has determined that to have probative value information must be reliable and relevant. Tapered Roller Bearings and Parts Thereof, Finished and Unfinished from Japan, and Tapered Roller Bearings Four Inches or Less in Outside Diameter, and Components Thereof, from Japan: Preliminary Results of Antidumping Duty Administrative Reviews and Partial Termination of Administrative Reviews, 61 FR 57391, 57392 (November 6, 1996). The SAA also states that independent sources used to corroborate such evidence may include, for example, published price lists, official import statistics and customs data, and information obtained from interested parties during the particular investigation. See Preliminary Determination of Sales at Less Than Fair Value: High and Ultra-High Voltage Ceramic Station Post Insulators from Japan, 68 FR 35627 (June 16, 2003); and, Final Determination of Sales at Less Than Fair Value: Live Swine From Canada, 70 FR 12181 (March 11, 2005).

To be considered corroborated, information must be found to be both reliable and relevant. Unlike other types of information, such as input costs or selling expenses, there are no independent sources for calculated dumping margins. The only sources for calculated margins are administrative determinations. The information upon which the AFA rate we are applying for the current review was calculated during the third administrative review. See Third AR Final Results. Furthermore, no information has been presented in the current review that calls into question the reliability of this information. Thus, the Department finds that the information is reliable.

With respect to the relevance aspect of corroboration, the Department will consider information reasonably at its disposal to determine whether a margin continues to have relevance. Where circumstances indicate that the selected margin is not appropriate as adverse facts available, the Department will disregard the margin and determine an appropriate margin. See, e.g., Fresh Cut Flowers from Mexico: Final Results of Antidumping Administrative Review, 61 FR 6812 (February 22, 1996). Similarly, the Department does not apply a margin that has been discredited. See D & L Supply Co. v. United States, 113 F.3d 1220, 1221 (Fed. Cir. 1997) (the Department will not use a margin that has been judicially invalidated). The AFA rate we are applying for the current review was corroborated in the third administrative review of honey from the PRC. See Third AR Final Results. Moreover, as there is no information on the record of this review that demonstrates that this rate is not appropriately used as adverse facts available, we determine that this rate has relevance.

As the Third AR Final Results margin is both reliable and relevant, we find that it has probative value. As a result, the Department determines that the Third AR Final Results margin is corroborated for the purposes of this administrative review and may reasonably be applied to Shanghai Bloom. Because these are preliminary results of review, the Department will consider all margins on the record at the time of the final results of review for the purpose of determining the most appropriate final margin for Shanghai Bloom. See Preliminary Determination of Sales at Less Than Fair Value: Solid Fertilizer Grade Ammonium Nitrate From the Russian Federation, 65 FR 1139 (January 7, 2000).

Preliminary Results of Review

We preliminarily determine that the following margin exists during the period December 1, 2005, through June 30, 2006:

Honey from the PRC
Shanghai Bloom | 212.39

We will disclose our analysis to parties to these proceedings within five days of the date of publication of this notice. Any interested party may request a hearing within 30 days of publication of this notice.

Interested parties who wish to request a hearing or to participate if one is requested, must submit a written request to the Assistant Secretary for Import Administration within 30 days of the date of publication of this notice. Requests should contain: (1) the party's name, address, and telephone number; (2) the number of participants; and (3) a list of issues to be discussed. See 19 CFR 351.310(c).

Issues raised in the hearing will be limited to those raised in case and rebuttal briefs. Case briefs from interested parties may be submitted not later than 30 days of the date of publication of this notice, pursuant to 19 CFR 351.309(c). Rebuttal briefs, limited to issues raised in the case briefs, will be due five days later, pursuant to 19 CFR 351.309(d). Parties who submit case or rebuttal briefs in this proceeding are requested to submit with each argument (1) a statement of the issue and (2) a brief summary of the argument. Parties are also encouraged to provide a summary of the arguments not to exceed five pages and a table of statutes, regulations, and cases cited.

The Department will issue the final results of this review, including the results of its analysis of issues raised in any such written briefs or at the hearing, if held, not later than 120 days after the date of publication of this notice.

Assessment Rates

Pursuant to 19 CFR 351.212(b), the Department will determine, and CBP shall assess, antidumping duties on all appropriate entries. The Department will issue appropriate assessment instructions directly to CBP within 15 days of publication of the final results of this review. We will instruct CBP to assess antidumping duties on all appropriate entries covered by this review if any assessment rate calculated in the final results of this review is above de minimis. The final results of this review shall be the basis for the assessment of antidumping duties on entries of merchandise covered by the final results of this review and for future deposits of estimated duties, where applicable.

Cash Deposit Requirements

The following cash deposit requirements will be effective upon publication of the final results of this new shipper review for all shipments of the subject merchandise entered, or withdrawn from warehouse, for consumption on or after the publication date, as provided for by section 751(a)(2)(C) of the Act: (1) the cash deposit rate will be established in the final results of this review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 212.39 percent; and (4) for all non-PRC exporters of subject merchandise which have not received their own rate, the cash deposit rate will be the rate applicable to the PRC exporters that supplied that non-PRC exporter. These deposit requirements, when imposed, shall remain in effect until publication of the final results of the next administrative review.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This new shipper review and notice are in accordance with sections 751(a)(1), 751(a)(2)(B), and 777(i) of the Act and 19 CFR 351.213 and 351.214.

Dated: June 26, 2007.
Joseph A. Spetrini,
Deputy Assistant Secretary for Import Administration.

[FR Doc. E7-12891 Filed 7-2-03; 8:45 am]

BILLING CODE 3510-DS-S